ENVIRONMENTAL PROTECTION AGENCY

[ER-FRL-6612-9]

Environmental Impact Statements; Notice of Availability

Responsible Agency: Office of Federal Activities, General Information (202) 564-7167 or http://www.epa.gov/oeca/ofa. Weekly receipt of Environmental Impact Statements Filed November 13, 2000 Through November 17, 2000 Pursuant to 40 CFR 1506.9.

EIS No. 000391, DRAFT EIS, FTA, MN, Northstar Transportation Corridor Project, Improvements from downtown Minneapolis to the St. Cloud area along Trunk Highway (TH) 10/47 and the Burlington Northern Santa Fe (BNSF) Railroad Transcontinental Route, Connecting the Hiawatha Light Rail Transit (LRT) Line at a Multi-Modal Station, Minneapolis/St. Paul (MSP) International, Due: January 08, 2001, Contact: Paul Fish (312) 353-2865.

EIS No. 000392, DRAFT EIS, AFS, OR, South Bend Weigh and Safety Station Establishment, Special Use Permit for Construction, Maintenance and Operation, Deschute National Forest Lands along US 97 near the Newberry National Volcanic Monument, Deschutes County, OR, Due: January 08, 2001, Contact: Chris Mickle (541) 383-4769.

EIS No. 000393, DRAFT EIS, BLM, OR, Rogue National Wild and Scenic River Hellgate Recreation Area (Applegate River to Grave Creek) Management Plan, Implementation, Badford District, Ephine County, OR, Due: February 24, 2001, Contact: Cori Cooper (541) 618-2428.

EIS No. 000394, FINAL SUPPLEMENT, NPS, CA, Yosemite National Park General Management Plan, Implementation, Tuolumne County, CA, Due: December 26, 2000, Contact: Alan Schmierer (415) 427-1441.

EIS No. 000395, FINAL EIS, AFS, MT, ID, Yellowstone Pipeline Proposed Changes to Existing Pipeline between Thompson Fall and Kingston, Sanders County, MT and Shoshone County, ID, Due: December 26, 2000, Contact: Terry Egenhoff (406) 329-3601.

EIS No. 000396, DRAFT EIS, AFS, OR, Mill Creek Timber Sales and Related Activities, To Implement Ecosystem Management Activities, Prospect Ranger District, Rogue River National Forest, Jackson County, OR, Due: January 16, 2001, Contact: Joel T. King (541) 560-3400.

EIS No. 000397, DRAFT SUPPLEMENT, COE, IL, Sugar Creek Municipal Water Supply, Updated Information, Proposed New 1172 Acre Water Supply Reservoir, Construction, COE Section 404 Permit Issuance, City of Marion, Williamson and Johnson Counties, IL, Due: January 08, 2001, Contact: Ronny Sadri (502) 315-6681.

EIS No. 000398, DRAFT EIS, AFS, ID, UT, OR, Boise National Forest, Payette National Forest and Sawtooth National Forest, Forest Plan Revision, Implementation, Southwest Idaho Ecogroup several counties, ID, Malhaur County, OR and Box Elder County, UT, Due: March 15, 2001, Contact: David Rittenhouse (208) 373-4100.

EIS No. 000399, DRAFT EIS, FAA, IL, WI, IN, Chicago Terminal Airspace Project (CTAP), For Proposed Air Traffic Control Procedures and Airspace Modification for Aircraft Operating To/From the Chicago Region, Including Chicago O'Hare International Airport, Chicago Midway Airport, Milwaukee Mitchell International Airport, IL, IN and WI, Due: January 08, 2001, Contact: Annette Davis (847) 294-8091.

EIS No. 000400, DRAFT SUPPLEMENT, NOA, ME, VT, CT, NH, MA, RI, Federal Lobster Management in the Exclusive Economic Service, Implementation, American Lobster Fishery Management Plan, NY, NH and MA, Due: January 08, 2001, Contact: Penelope D. Dalton (301) 713-2239.

EIS No. 000401, DRAFT EIS, DOE, SC, Savannah River Site, High-Level Waste Tank Closure (DOE/EIS-0303D), Implementation, Industrial Wastewater Closure Plan for the F and H-Area High-Level Waste Tank Systems, Aiken County, SC, Due: January 23, 2001, Contact: Andrew R. Grainger (800) 881-7292.

EIS No. 000402, FINAL EIS, COE, IL, Hunter Lake New Supplemental Water Supply Reservoir, Construction, City of Springfield Application for Permit, Sangamon County, IL, Due: December 26, 2000, Contact: Charlene Carmack (309) 794-5570.

EIS No. 000403, FINAL EIS, COE, NE, Western Sarpy/Clear Creek Flood Reduction Study Including Environmental Restoration Component, Lower Platte River and Tributaries, Saunders and Sarpy Counties, NE, Due: December 26, 2000, Contact: Nelson S. Carpenter (402) 221-4450.

EIS No. 000404, FINAL SUPPLEMENT, AFS, CA, WA, OR, Northern Spotted Owl Management Plan, Updated Information for Amendment to the Survey and Manage, Protection Buffer and Other Mitigating Measures, Standards and Guidelines (to the Northwest Forest Plan), Late-Successional and Old Growth Forest Related Species Within the Range of the Northern Spotted Owl, OR, WA and CA, Due: December 26, 2000, Contact: Dick Prather (503) 808-2165.

EIS No. 000405, FINAL EIS, COE, CA, Whitewater River Basin (Thousand Palms) Flood Control Project, Construction of Facilities to Provide Flood Protection, Coachella Valley, Riverside County, CA, Due: December 26, 2000, Contact: Hayley Lovan (213) 452-3863.

EIS No. 000406, FINAL EIS, FHW, WA, NE 8TH/I-405 Interchange Project, Construction, Funding, Right-of-Way Use Permit and NPDES Stormwater Permit, City of Bellevue, King County, WA, Due: December 26, 2000, Contact: Gene Fong (360) 753-9413.

Amended Notices

EIS No. 000331, DRAFT SUPPLEMENT, AFS, WA, Huckleberry Land Exchange Consolidate Ownership and Enhance Future Conservation and Management, Updated Information, Proposal to Exchange Land and Mineral Estates, Federal Land and Non Federal Land, Mt. Baker-Snoqualmie National Forest, Skagit Snohomish, King, Pierce, Kittitas, and Lewis Counties, WA Revision of FR notice published on 09/22/2000: CEQ Comment Date Extended from 11/13/2000 to 11/27/2000.

Dated: November 20, 2000.
Joseph C. Montgomery,
Director, NEPA Compliance Division, Office of Federal Activities.

[FR Doc. 00-30043 Filed 11-22-00; 8:45 am]

BILLING CODE 6560-50-U